DEPARTMENT OF THE INTERIOR

Bureau of Land Management

[NV-930; 1430-ES, N-61015]

Notice of Realty Action: Conveyance for Recreation and Public Purposes

AGENCY: Bureau of Land Management, Interior.

ACTION: Recreation and Public Purpose Conveyance.

SUMMARY: The following described public land in Las Vegas, Clark County, Nevada has been examined and found suitable for conveyance for recreational or public purposes under the provisions of the Recreation and Public Purposes Act, as amended (43 U.S.C. 869 et seq.). Clark County proposes to use the land for a solid waste convenience station.

Mount Diablo Meridian, Nevada

T. 15 S., R. 67 E., section 16, S½SE¼NW¼SW¼NE¼, NW¼SE¼NW¼SW¼NE¼.

Consisting of 1.88 acres.

The land is not required for any federal purpose. The conveyance is consistent with current Bureau planning for this area and would be in the public interest. The patents, when issued, will be subject to the provisions of the Recreation and Public Purposes Act and applicable regulations of the Secretary of the Interior, and will contain the following provisions and reservations to the United States:

1. Excepting and Reserving to the United States: A right-of-way thereon for ditches or canals constructed by the authority of the United States, Act of August 30, 1890 (43 U.S.C. 945).

2. All minerals shall be reserved to the United States, together with the right to prospect for, mine and remove such deposits from the same under applicable law and such regulations as the Secretary of the Interior may prescribe and will be subject to.

3. SUBJECT TO: The patentee shall comply with all Federal and State laws applicable to the disposal, placement or release of hazardous substances as defined in 40 CFR part 302, and indemnify the United States against any legal liability or future cost that may arise out of any violation of such laws.

4. Under no circumstances will any portion of the lands that have been used for solid waste disposal, or for any other purpose that the authorized officer determines may result in disposal, placement, or release of any hazardous substance, be reconveyed to United States.

5. If, at any time the patentee transfers to another party ownership of any portion of the land not used for the purpose(s) specified in the application and the approved plan of development, the patentee shall pay the Bureau of Land Management the fair market value, as determined by the authorized officer, of the transferred portion as of the date of transfer, including the value of any improvement thereon.

6. The above described land has been conveyed for utilization as a solid waste disposal site as follows:

T. 15 S., R. 67 E., section 16, S½SE¼NW¼SW¼NE¼, NW¼SE¼NW¼SW¼NE¼.

Upon closure, the site may contain small quantities of commercial and household hazardous waste as determined in the Resource Conservation and Recovery Act of 1976, as amended, (42 U.S.C. 6901), as defined in 40 CFR 261.4 and 261.5. Although there is no indication these materials pose any significant risk to human health or the environment, future land uses should be limited to those which do not penetrate the linear or final cover of the landfill unless excavation is conducted subject to applicable State and Federal requirements.

7. All valid and existing rights.

8. Clark County, a political subdivision of the State of Nevada, and its assignees, assumes all liability for and shall defend, indemnify, and save harmless the United States and its officers, agents, representatives, and employees (hereinafter referred to in this clause as the United States) from all claims, loss, damage, actions, causes of action, expense, and liability (hereinafter referred to in this clause as claims) resulting from, brought for, or on account of, any personal injury, threat of personal injury, or property damage received or sustained by any person growing out of, occurring, or attributable directly or indirectly, to the disposal of solid waste on, or the release of hazardous substances from the S½SE¼NW¼SW¼NE¼, NW¼SE¼NW¼SW¼NE¼, Section 16, T. 15 S., R. 67 E., regardless of whether such claims shall be attributable to: (1) The concurrent, contributory, or partial fault, failure, or negligence of the United States, or (2) the sole fault, failure, or negligence of the United States.

9. In addition to the above the patent of the herein described land is subject to the following reservations, conditions, and limitations: The patentee or its successor in interest shall comply with and shall not violate any of the terms or provisions of Title VI of the Civil Rights Act of 1964 (78 Stat. 241) and requirements of the regulations, as modified or amended, of the Secretary of the Interior issued pursuant thereto (43 CFR 17) for the period that the lands conveyed herein is used for the purpose for which the grant was issued pursuant to the act cited or for another purpose involving the provision of similar services or benefits.

10. The United States shall have the right to seek judicial enforcement of the requirements of Title VI of the Civil Rights Act of 1964, and the terms and conditions of the regulations, as modified or amended, of the Secretary of the Interior issued pursuant to said Title VI, in the event of their violation by the patentee.

11. The patentee or its successor in interest will, upon request of the Secretary of the Interior or his delegate, post and maintain on the property conveyed by this document, signs or posters bearing legend concerning the applicability of Title VI of the Civil Rights Act of 1964 to the property conveyed.

12. The reservations, conditions and limitations contained in paragraphs 9 through 11 shall constitute a covenant running with the land, binding on the lessee and its successors in interest for the period for which the land herein is used for the purpose for which this grant was made or for another purpose involving the provision of similar services or benefits.

13. The assurances and covenant required by paragraphs 9 through 12 above shall not apply to ultimate beneficiaries under the program for which this patent is made. Ultimate beneficiaries are identified in 43 CFR 17.12(h). Detailed information concerning this action is available for review at the office of the Bureau of Land Management, Las Vegas Field Office, 4765 W. Vegas Drive, Las Vegas, Nevada. 89108.

Upon publication of this notice in the Federal Register, the above described land will be segregated from all other forms of appropriation under the public land laws, including the general mining laws, except for conveyance under the Recreation and Public Purposes Act, leasing under the mineral leasing laws and disposal under the mineral material disposal laws.

For a period of 45 days from the date of publication of this notice in the Federal Register, interested parties may submit comments regarding the proposed conveyance for classification of the lands to the District Manager, Las Vegas Field Office, 4765 Vegas Drive, Las Vegas, Nevada 89108.

Classification Comments: Interested parties may submit comments involving the suitability of the land for a solid waste convenience station. Comments on the classifications are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a solid waste convenience station.

Any adverse comments will be reviewed by the State Director.

In the absence of any adverse comments, the classification of the land described in this Notice will become effective 60 days from the date of publication in the Federal Register. The lands will not be offered for conveyance until after the classification becomes effective.

Dated: March 8, 2000.
Judy A. Fry,
Acting Assistant Field Manager, Division of Lands, Las Vegas Field Office.

[FR Doc. 00-6893 Filed 3-20-00; 8:45 am]

BILLING CODE 4310-HC-P